SMALL BUSINESS ADMINISTRATION

13 CFR Part 120

Business Loan Program

AGENCY: U.S. Small Business Administration.

ACTION: Advance notice of proposed rulemaking (ANPRM); notice of extension of the comment period.

SUMMARY: By means of an advance notice of proposed rulemaking (ANPRM), the U.S. Small Business Administration (SBA) is requesting comments addressing the Certified Development Company (CDC) Loan Program (the “CDC Program” or the “504 Program”). After a review of the comments, SBA will consider proposing amendments to existing program regulations that will improve overall program management.

SBA is revisiting the 504 Program policies as a prudent management exercise in light of major changes in the economy, the financial services industry, technology, and in CDCs' operations since the program's inception in 1980. The review has also been prompted by SBA's on-going discussions with the 504 industry and by specific requests made to SBA to expand CDCs' product base to include 7(a) loans or Small Business Investment Companies. In particular, SBA is seeking comments on the following: Whether the 504 Program is meeting its statutory purpose as defined in section 501(a) of the Small Business Investment Act; the appropriate long-term goals and annual performance measures for the program given its statutory requirement; the appropriate data elements required to assure solid program oversight while minimizing public data collection burdens; operational or regulatory impediments to providing long-term financing in rural or urban areas; and programmatic changes that could increase CDC competition and increase small businesses' access to loans.

The ANPRM is intended to stimulate dialogue on these and other issues pertaining to the CDC Program. The ANPRM was published on December 6, 2002, 67 FR 72622. The comment period closes on February 4, 2003. Because of the broad range of topics and issues addressed in the ANPRM, and due to requests from the public and members of Congress, SBA is extending the time period for comments by an additional 30 days to March 6, 2003. We do this because of our desire to have a meaningful dialogue on the important issues that seek to enhance SBA's efforts to serve small businesses through the CDC Program.

DATES: The comment period for the ANPRM published December 6, 2002 (67 FR 72622) is extended through March 6, 2003.

ADDRESSES: Address all comments to: James E. Rivera, Associate Administrator for Financial Assistance, U.S. Small Business Administration, 409 Third Street, SW., 8th Floor, Washington, DC 20416. Comments may be sent by e-mail to ANPR@sba.gov.

FOR FURTHER INFORMATION CONTACT: Gail H. Hepler, Chief, 504 Loan Policy Branch, U.S. Small Business Administration, 409 Third Street, SW., 8th Floor, Washington, DC 20416. Questions may be sent by e-mail to gail.helpler@sba.gov or by telephone at (202) 205-7530. This is not a toll-free number.

Dated: January 27, 2003.
James E. Rivera,
Associate Administrator for Financial Assistance.

[FR Doc. 03-2399 Filed 1-31-03; 8:45 am]

BILLING CODE 8025-01-P